DEPARTMENT OF TRANSPORTATION

Federal Railroad Administration

[Docket Number FRA-2015-0049]

Petition for Waiver of Compliance

In accordance with part 211 of Title 49 Code of Federal Regulations (CFR), this document provides the public notice that by a document dated May 6, 2015, Iowa River Railroad Inc. (IARR) has petitioned the Federal Railroad Administration (FRA) for a waiver of compliance from certain provisions of the Federal railroad safety regulations contained at 49 CFR 223.11—Requirements for existing locomotives. FRA assigned the petition Docket Number FRA-2015-0049.

IARR of Steamboat Rock, IA, has petitioned for a permanent waiver of compliance for one locomotive, CANX 1236, from the requirements of the railroad safety glazing standards at 49 CFR part 223 that require certified glazing in all windows. In June 2006, IARR acquired the dormant rail-banked track between Milepost 212.0 at or near Steamboat Rock and Milepost 201.46 at or near Ackley, IA, a distance of 10.54 miles, from the North Central Railway Association, Inc. This rail-banked track, all of which is in a rural area, has been rehabilitated, and the line, designated as yard limits, is currently in use. The main products handled by IARR include ethanol, grain, and chemicals/fertilizers. The railroad interchanges with the Chicago Central and Pacific Railroad (owned by Canadian National Railway) at Ackley.

The locomotive is an EMD SW1200 diesel switcher locomotive (weight, 230,000 pounds) built by General Motors Electro-Motive Division (EMD) in 1956. Power is provided by an EMD 567C 12-cylinder engine that generates 1,200 horsepower (895 kW). The switcher uses the traditional carbody and rounded-cab roof-line. The existing safety glazing in the locomotive is in good condition. IARR states that there has been no history of glazing-related accidents or injuries during its operations since 2006. The expense of retrofitting the locomotive to comply with FRA safety glazing standards is financially burdensome, and IARR is, therefore, requesting the waiver of the regulation at 49 CFR 223.11 for its locomotive listed above.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by September 4, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy.

See also http://www.regulations.gov/#!privacyNotice for the privacy notice of regulations.gov or interested parties may review DOT's complete Privacy Act Statement in the Federal Register published on April 11, 2000 (65 FR 19477).

Issued in Washington, DC, on July 14, 2015.
Ron Hynes,
Director, Office of Technical Oversight.

[FR Doc. 2015-17827 Filed 7-20-15; 8:45 am]

BILLING CODE 4910-06-P